DEPARTMENT OF TRANSPORTATION

Federal Aviation Administration

14 CFR Parts 61, 65, 67, and 183

[Docket No. FAA-2007-27812; Notice No. 07-08]

RIN 2120-AI91

Modification of Certain Medical Standards and Procedures and Duration of Certain Medical Certificates

AGENCY: Federal Aviation Administration (FAA), DOT.

ACTION: Notice of proposed rulemaking (NPRM).

SUMMARY: This proposal would extend the duration of first- and third-class medical certificates for certain individuals. A first-class medical certificate is required when exercising airline transport pilot privileges and at least a third-class medical certificate when exercising private pilot privileges. Certain conforming amendments to medical certification procedures and some general editorial amendments also are proposed. The intent of this action is to improve the efficiency of the medical certification program and service provided to medical certificate applicants.

DATES: Send your comments on or before June 11, 2007.

ADDRESSES: You may send comments identified by Docket Number FAA-2007-27812 using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document. Privacy: We will post all comments we receive, without change, to http://dms.dot.gov, including any personal information you provide. For more information, see the Privacy Act discussion in the SUPPLEMENTARY INFORMATION section of this document. Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Judi Citrenbaum, Office of the Federal Air Surgeon, Federal Aviation Administration, 800 Independence Avenue SW., Washington, DC 20591; telephone (202) 267-9689; e-mail: Judi.M.Citrenbaum@faa.gov.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the Web address in the ADDRESSES section.

Privacy Act: Using the search function of our docket Web site, anyone can find and read the comments received into any of our dockets, including the name of the individual sending the comment (or signing the comment on behalf of an association, business, labor union, etc.). You may review DOT's complete Privacy Act Statement in the Federal Register published on April 11, 2000 (65 FR 19477-78) or you may visit http://dms.dot.gov.

Before acting on this proposal, we will consider all comments we receive on or before the closing date for comments. We will consider comments filed late if it is possible to do so without incurring expense or delay. We may change this proposal in light of the comments we receive.

If you want the FAA to acknowledge receipt of your comments on this proposal, include with your comments a pre-addressed, stamped postcard on which the docket number appears. We will stamp the date on the postcard and mail it to you.

Proprietary or Confidential Business Information

Do not file in the docket information that you consider to be proprietary or confidential business information. Send or deliver this information directly to the person identified in the FOR FURTHER INFORMATION CONTACT section of this document. You must mark the information that you consider proprietary or confidential. If you send the information on a disk or CD ROM, mark the outside of the disk or CD ROM and also identify electronically within the disk or CD ROM the specific information that is proprietary or confidential.

Under 14 CFR 11.35(b), when we are aware of proprietary information filed with a comment, we do not place it in the docket. We hold it in a separate file to which the public does not have access, and place a note in the docket that we have received it. If we receive a request to examine or copy this information, we treat it as any other request under the Freedom of Information Act (5 U.S.C. 552). We process such a request under the DOT procedures found in 49 CFR part 7.

Availability of Rulemaking Documents

You can get an electronic copy using the Internet by:

(1) Searching the Department of Transportation's electronic Docket Management System (DMS) Web page (http://dms.dot.gov/search);

(2) Visiting the FAA's Regulations and Policies Web page at http://www.faa.gov/regulations_policies/; or

(3) Accessing the Government Printing Office's web page at http://www.gpoaccess.gov/fr/index.html.

You can also get a copy by sending a request to the Federal Aviation Administration, Office of Rulemaking, ARM-1, 800 Independence Avenue SW., Washington, DC 20591, or by calling (202) 267-9680. Make sure to identify the docket number, notice number, or amendment number of this rulemaking.

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701 and 44703.

Background

Title 14 of the Code of Federal Regulations, part 67 provides for the issuance of three classes of medical certificates. A first-class medical certificate is required for operations requiring an airline transport pilot certificate. At least a second-class medical certificate is required for operations requiring a commercial pilot certificate or an air traffic control tower operator certificate. At least a third-class medical certificate is required for operations requiring a private pilot certificate, a recreational pilot certificate, a flight instructor certificate (when acting as pilot in command or serving as a required flight crewmember in operations other than glider or balloon), or a student pilot certificate.

An applicant who is found to meet the appropriate medical standards, based on a medical examination and an evaluation of the applicant's history and condition, is entitled to a medical certificate without restriction or limitation other than the prescribed limitation as to its duration. The duration standards are set forth under existing § 61.23, paragraph (d).

The FAA has not reviewed the medical duration standards since 1996 when it extended the duration of third-class medical certificates from 2 years to 3 years for individuals under age 40. The medical examination duration standards under existing § 61.23 (d) represent what the agency determined years ago to be a reasonable, minimum timetable to impose for required examinations and an optimum schedule in terms of estimated detectable pathology in the airman population. The FAA is proposing to further extend certain § 61.23 (d) provisions in order to provide a more reasonable, updated examination timetable for certain medical certificate holders and with a view to more efficiently managing the airman medical certification program overall.

Discussion of the Proposal

The FAA proposes, primarily, to amend § 61.23(d) to extend the duration of first- and third-class medical certificates for individuals under the age of 40. Existing § 61.23 prescribes the duration of validity and privileges of each class of medical certificate. Currently the maximum validity on a first-class medical certificate is 6 months regardless of age and, on a third-class medical certificate, 36 months for individuals under age 40. Decreasing the frequency of medical examinations by increasing the duration of validity from 6 months to 1 year on first-class medical certificates for individuals under age 40 and from 36 months to 60 months on third-class medical certificates for individuals under age 40 would reflect the FAA's assessment of the current, appropriate interval for younger airmen. It also would decrease routine workflow thereby allowing the FAA to focus on the most safety-critical certification cases and provide more efficient service to other applicants waiting to be processed.

The FAA finds that, because medical standards were last evaluated in 1996, this rulemaking action also provides the opportunity to make certain minor, but necessary, amendatory modifications. In addition to proposed amendments to § 61.23 (d), the FAA also proposes to:

• Add new section § 67.4.

• Amend § 183.15.

• Edit §§ 61.29, 65.16, 67.3, 67.401, 67.405, 67.411, 67.413, and 183.11.

Proposed Amendments

Section 61.23 Medical Certificates: Requirement and Duration

Rationale for the Change

The FAA extended the duration of third-class medical certificates from 24 to 36 months for individuals under age 40 in 1996 [61 FR 11243; March 19, 1996]. After careful consideration of the comments and testimony received during that rulemaking action, the FAA determined an extended duration would pose no detriment to safety in the case of younger individuals because they are much less likely to suffer medical incapacitation. Ten years of experience with extended duration on the third-class medical certificate has had no adverse impact on safety.

The FAA has no experience extending the duration of first-class medical certificates beyond the current 6-month limit. The FAA developed this proposal through review of relevant medical literature, its own aeromedical certification data, and accident data. Additionally, the FAA considered the long-standing International Civil Aviation Authority (ICAO) standard requiring revalidation of medical certification annually for airline transport and commercial pilots in multi-crew settings and also the ICAO standard adopted in November 2005 extending revalidation for private pilots from 2 years to 5 years under age 40. Existing U.S. medical certificate validity standards for commercial pilots under age 40 in a multi-crew setting currently are the same as ICAO's; therefore, the FAA sees no need to consider a change to FAA second-class medical certificate validity standards. The FAA is proposing to modify existing, more restrictive U.S. medical certificate validity standards for airline transport and private pilots under age 40 in part because of the international application of less restrictive standards that has had no reported adverse impact on safety.

To explore whether the re-examination period for pilots under age 40 holding an FAA first-class medical certificate could be safely extended from 6 months to 12 months, FAA researchers randomly selected a sample of 100 airmen issued a first-class medical certificate under age 40 from its medical certification database and reviewed medical records over a 36-month period for the presence of 91 predetermined pathology codes defined as significant. Significant codes represent serious medical conditions that would negatively impact aviation safety. The proportion of significant pathology codes assigned to airmen who were examined at 6- and 12-month intervals were compared.

Comparison of the 6- and 12-month intervals revealed one medically significant pathology code (Code 551, colitis and ileitis) at the 6-month interval and one medically significant pathology code (Code 343, pneumothorax) at the 12-month interval. The FAA determined that there was no significant difference between the proportion of medically significant pathology codes assigned to pilots who recertified at 6-month intervals and 12-month intervals.

FAA certification trends consistently indicate no significant increase either in undetected pathology between required medical examinations or in medical disability among younger applicants. While applicants of any age manifesting medical conditions that represent a risk to safety are denied certification under § 67.409, the trends reveal that the percentage of younger applicants being denied medical certification is consistently lower than that of older applicants. It is also consistently evident that older applicants are more likely to have to apply for special issuance under § 67.401 than are younger applicants.

Aviation Safety Information Analysis and Sharing (ASIAS) accident database queries on airline transport and private pilots under age 40 reveal relatively few accidents and incidents, when total number of enplanements is considered, related to pilot medical events. The National Transportation Safety Board (NTSB) Accident and Incident Data System was searched for medical events for pilots under age 40 from 1983 to the present. Under the general categories of incapacitation and physical impairment, various sub-queries were performed to find accidents or incidents due, for example, to incapacitation or physical impairment due to cardiovascular, loss of consciousness, neurologic, visual, or other organic problems. Search of these categories revealed 6 incidents and 21 accidents over the 23-year period that met the criteria of the database query, with only 9 of these deemed appropriate to consider for this analysis.

The data considered revealed what the NTSB data characterizes as one commercial (air carrier) aviation incident, one commercial (air taxi) aviation incident, and one commercial (air taxi) aviation accident attributed to incapacitating medical cause. Both the air carrier and air taxi incidents involved emergency landings made by captains due to incapacitations of the first officers. The air carrier incident was fatal for the first officer. The air taxi incident was non-fatal. The first officer involved in the air taxi incident was able to be treated and was diagnosed as suffering from a viral syndrome. The air taxi accident was non-fatal involving the unspecified incapacitation of the pilot in command with the first officer taking control and landing the airplane without further incident.

The data also revealed what the NTSB data characterized as four general aviation accidents attributed to incapacitation and one incident attributed to physical impairment. Two of the incapacitating accidents, both fatal, were due to heart attack of the pilots in command. Two non-fatal, incapacitating accidents were attributed to pilots, one a low-time pilot and one a student pilot, losing consciousness upon landing while performing certain practice maneuvers. The accident reports indicated inexperience and nervousness as contributing to the accidents. The non-fatal incident attributed to physical impairment involved a pilot taking sinus medication 90 minutes after takeoff and then further medication 30 minutes later that, apparently, may have incapacitated him.

Considering the limited findings revealed by reviewing ASIAS and FAA aeromedical certification data, the FAA believes the incremental risks associated with extending the duration of medical certificates would be minimal. Additionally, the ancillary benefit this proposal would provide by allowing the FAA to shift resources otherwise involved in processing routine cases to the more safety-critical medical certification cases would go a long way toward improving customer service. The FAA has been making incremental changes over a considerable period of time to improve the workflow of the medical certification process; this proposal would provide an additional opportunity for continuous improvement.

Proposed Implementation of the Change

The FAA intends that the proposed, extended validity periods would be effective upon issuance of the final rule. Therefore, it would not matter whether an individual had a medical examination the day before or the day after the effective date of the final rule. Validity standards are applied according to the date of examination placed on the medical certificate and in accordance with the duration periods specified under § 61.23(d).

Under this proposal, § 61.23(d) would be simplified into a more user-friendly chart format.

Section 67.3 Issue

The FAA proposes an editorial amendment to delete a reference to a non-existent § 67.5. On October 5, 1998 [63 FR 53532] the FAA removed several regulatory provisions under 14 CFR that restricted the licensing of foreign persons outside of the United States. The restrictive language was originally placed in the regulations because of administrative concerns that are no longer applicable and that came to be regarded as restricting harmonization efforts. Section 67.5 was removed in this 1998 final rule; however, the FAA inadvertently did not remove the reference to former § 67.5 in existing § 67.3. This proposal would remove that erroneous reference and leave § 67.3 otherwise unchanged.

Section 67.4 Application

The FAA proposes to add a new section, § 67.4.

Proposed paragraph (a) would add a provision to require individuals to make application for FAA medical certification “on a form and in a manner acceptable to the Administrator.” Adding this language would clarify that it is necessary to fill out a form to apply for a medical certificate and thereby conform part 67 with existing language under § 61.13(a) that requires pilot certificate applicants to make application “on a form and in a manner acceptable to the Administrator.”

Proposed paragraph (b) would move existing provisions regarding how individuals may locate an AME from existing § 67.405.

Proposed paragraph (c) would require applicants to present proof of age and identity when making application. While an AME currently may not conduct an examination unless the medical certificate applicant presents proof of age and identity, this practice now would be codified under the regulation.

Section 67.401 Special Issuance of Medical Certificates

Existing paragraph (j) would be deleted as it contains a reference to a previous compliance date that is no longer necessary. The section would remain otherwise unchanged.

Section 67.405 Medical Examinations: Who May Give?

Current paragraphs (a) and (b) regarding how the public may locate and contact an AME are redundant and need to be expanded. The FAA would update and move these provisions to proposed § 67.4. In addition, the FAA would change the words “give the examination” to “perform the examination.” The word “give” in the title of this section also would be changed to “perform.”

Section 67.411 Medical Certificates by Flight Surgeons of the Armed Forces

The FAA proposes to remove and reserve this section. The FAA has determined that a specific section to address military flight surgeons holding AME designation is no longer necessary. The FAA has ceased designating military installations in favor of designating individual military personnel as AMEs in the same manner as civilians. Thus there no longer is a meaningful distinction between civilian AME and military flight surgeons in terms of issuing FAA medical certificates.

Section 67.413 Medical Records

The FAA proposes to simplify § 67.413 by re-formatting its provisions into more user-friendly paragraphs. This intent of this section would not change.

Section 61.29 Replacement of a Lost or Destroyed Airman or Medical Certificate or Knowledge Test Report

Section 65.16 Change of Name: Replacement of Lost or Destroyed Certificate

The FAA proposes to change the P.O. Box address listed under §§ 61.29(b) and 65.16(b) from P.O. Box 25082 to P.O. Box 26200 for individuals to use when requesting replacement of a lost or destroyed medical certificate. While the current P.O. Box is valid, replacement requests are received more expeditiously, and therefore processed more efficiently, when sent to P.O. Box 26200.

Section 183.11 Selection

The FAA proposes to change “his authorized representatives” to “his or her authorized representatives” in order to conform to the existing language of other sections, for example, § 67.407(d), that use “his or her.” This section otherwise would remain unchanged.

Section 183.15 Duration of Certificates

The FAA proposes to amend § 183.15. Under rulemaking that became effective on November 14, 2005 [“Establishment of Organization Designation Authorization Program; 70 FR 59932; October 13, 2005”], the FAA amended § 183.15 to remove a specific time limit on designated authority for certain representatives of the Administrator and provide instead that designations be effective until the expiration date shown on whatever credentialing documentation or certificate is held by a particular designee. Adding such a provision has worked well among the designees of the FAA Flight Standards and Aircraft Certification Services. In addition to reducing cost and workload, it has allowed greater flexibility, in particular, in automatically extending the designation authority of valued FAA designees. Including AMEs under this process will further enhance the FAA's ability to more efficiently manage FAA designee programs.

Existing paragraph (b) would be revised to provide, in addition to Flight Standards and Aircraft Certification Service Designated Representatives, that the designation of Aviation Medical Examiners would be “effective until the expiration date shown on the document granting the authorization.” Therefore existing paragraph (a), a stand-alone paragraph referencing AMEs only, would no longer be needed and therefore removed. Existing paragraph (b) would be revised as proposed and become new paragraph (a). Existing paragraph (c) would become new paragraph (b) and remain unchanged except it would include the word “her” where necessary in the paragraph.

Paperwork Reduction Act

Currently, the reverse side of FAA Form 8500-9, the FAA medical certificate, lists the “Conditions of Issue” of the certificate and specifies the validity period of each class of medical certificate. If this rule is adopted, the back of FAA Form 8500-9 would have to be reprinted to reveal the new validity periods for first- and third-class medical certificate holders under age 40. Further, approximately 2,000 boxes of reprinted forms would have to be mailed from the Oklahoma City distribution site to various Aviation Medical Examiners and FAA offices across the country.

In anticipation of revising the back of the medical certificate attached to FAA Form 8500-8, the FAA will request new approval given the cost to the FAA associated with amending and reprinting it. As required by the Paperwork Reduction Act of 1995 (44 U.S.C. 3507(d)), the FAA has submitted the information requirements associated with this proposal to the Office of Management and Budget for its review.

International Compatibility

In keeping with U.S. obligations under the Convention on International Civil Aviation, it is FAA policy to comply with International Civil Aviation Organization (ICAO) Standards and Recommended Practices to the maximum extent practicable. This action, if adopted, would meet ICAO standard.

Economic Assessment, Initial Regulatory Flexibility Determination, Trade Impact Assessment, and Unfunded Mandates Assessment

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule. We suggest readers seeking greater detail read the full regulatory evaluation, a copy of which we have placed in the docket for this rulemaking.

In conducting these analyses, FAA has determined that this proposed rule: (1) Has benefits that justify its costs, (2) is not an economically “significant regulatory action” as defined in section 3(f) of Executive Order 12866, (3) is not “significant” as defined in DOT's Regulatory Policies and Procedures; (4) would not have a significant economic impact on a substantial number of small entities; (5) would not create unnecessary obstacles to the foreign commerce of the United States; and (6) would not impose an unfunded mandate on State, local, or tribal governments, or on the private sector by exceeding the threshold identified above. These analyses are summarized below.

This proposal would extend the duration of first- and third-class medical certificates for medical certificate holders under the age of 40 and make certain editorial amendments to the medical certification regulations. The proposal is estimated to generate $85.0 million ($59.7 million, discounted) of cost savings while only imposing $123,000 ($115,000, discounted) of costs over 10 years.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

This proposal would not impact small entities. It would only impact 1st class and 3rd class pilots who are expected to save about $300 for each time that they do not have to renew their medical certificates. (The FAA cost-estimates on the price of a medical exam, the time for the exam, the time to fill out the form, and the travel time would total approximately $300.) Therefore, the FAA certifies that this proposed rule would not have a significant economic impact on a substantial number of small entities.

International Trade Impact Assessment

The Trade Agreements Act of 1979 (Pub. L. 96-39) prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this proposed rule and has determined that it would have only a domestic impact and therefore no effect on international trade.

Unfunded Mandates Assessment

Title II of the Unfunded Mandates Reform Act of 1995 (Pub. L. 104-4) requires each Federal agency to prepare a written statement assessing the effects of any Federal mandate in a proposed or final agency rule that may result in an expenditure of $100 million or more (adjusted annually for inflation with the base year 1995) in any one year by State, local, and tribal governments, in the aggregate, or by the private sector; such a mandate is deemed to be a “significant regulatory action.” The FAA currently uses an inflation-adjusted value of $128.1 million in lieu of $100 million. This proposed rule does not contain such a mandate.

The proposed rule does not contain any Federal intergovernmental or private sector mandates; therefore, the requirements of Title II of the Unfunded Mandates Reform Act of 1995 do not apply.

Executive Order 13132, Federalism

The FAA has analyzed this proposed rule under the principles and criteria of Executive Order 13132, Federalism. We determined that this action would not have a substantial direct effect on the States, on the relationship between the national Government and the States, or on the distribution of power and responsibilities among the various levels of government, and therefore would not have federalism implications.

Plain English

Executive Order 12866 (58 FR 51735, Oct. 4, 1993) requires each agency to write regulations that are simple and easy to understand. We invite your comments on how to make these proposed regulations easier to understand, including answers to questions such as the following:

• Are the requirements in the proposed regulations clearly stated?

• Do the proposed regulations contain unnecessary technical language or jargon that interferes with their clarity?

• Would the regulations be easier to understand if they were divided into more (but shorter) sections?

• Is the description in the preamble helpful in understanding the proposed regulations?

Please send your comments to the address specified in the ADDRESSES section.

Environmental Analysis

FAA Order 1050.1E identifies FAA actions that are categorically excluded from preparation of an environmental assessment or environmental impact statement under the National Environmental Policy Act in the absence of extraordinary circumstances. The FAA has determined this proposed rulemaking action qualifies for the categorical exclusion and involves no extraordinary circumstances.

Regulations that Significantly Affect Energy Supply, Distribution, or Use

The FAA has analyzed this NPRM under Executive Order 13211, Actions Concerning Regulations that Significantly Affect Energy Supply, Distribution, or Use (May 18, 2001). We have determined that it is not a “significant energy action” under the executive order because it is not a “significant regulatory action” under Executive Order 12866, and it is not likely to have a significant adverse effect on the supply, distribution, or use of energy.

List of Subjects

14 CFR Part 61

Aircraft, Airmen, Aviation safety, and Reporting and recordkeeping requirements.

14 CFR Part 65

Airmen other than flight crewmembers.

14 CFR Part 67

Aircraft, Airmen, Alcohol abuse, Drug abuse, Recreation and recreation areas, Reporting and recordkeeping requirements.

14 CFR Part 183

Aircraft, Airmen, Authority delegations (Government agencies), Reporting and recordkeeping requirements.

The Proposed Amendment

In consideration of the foregoing, the Federal Aviation Administration proposes to amend Chapter I of Title 14, Code of Federal Regulations, as follows:

PART 61—CERTIFICATION: PILOTS, FLIGHT INSTRUCTORS, AND GROUND INSTRUCTORS

1. The authority citation for part 61 continues to read as follows:

Authority: 49 U.S.C. 106(g), 40113, 44701-44703, 44707, 44709-44711, 45102-45103, 45301-45302.

2. Amend § 61.23 by revising paragraph (d) as follows:

§ 61.23 Medical certificates: Requirement and duration.

* * * * *

(d) Duration of a medical certificate. Use the following table to determine how long each class of medical certificate is valid:

If you hold | And you are | Conducting an operation requiring | Then your medical certificate is valid from the date of the examination, through the rest of that month, and for
(1) A first-class medical certificate | (i) Under age 40 | an airline transport pilot certificate | 12 more calendar months.
| (ii) Age 40 or older | an airline transport pilot certificate | 6 more calendar months.
| (iii) Of any age | a commercial pilot certificate or an air traffic control tower operator certificate | 12 more calendar months.
| (iv) Under age 40 | a recreational pilot certificate, a private pilot certificate, a flight instructor certificate (when acting as pilot in command or a required pilot flight crewmember in operations other than glider or balloon), or a student pilot certificate | 60 more calendar months.
| (v) Age 40 or older | a recreational pilot certificate, a private pilot certificate, a flight instructor certificate (when acting as pilot in command or a required pilot flight crewmember in operations other than glider or balloon), or a student pilot certificate | 24 more calendar months.
(2) A second-class medical certificate | (i) Of any age | a commercial pilot certificate or an air traffic control tower operator certificate | 12 more calendar months.
| (ii) Under age 40 | a recreational pilot certificate, a private pilot certificate, a flight instructor certificate (when acting as pilot in command or a required pilot flight crewmember in operations other than glider or balloon), or a student pilot certificate | 60 more calendar months.
| (iii) Age 40 or older | a recreational pilot certificate, a private pilot certificate, a flight instructor certificate (when acting as pilot in command or a required pilot flight crewmember in operations other than glider or balloon), or a student pilot certificate | 24 more calendar months.
(3) A third-class medical certificate | (i) Under age 40 | a recreational pilot certificate, a private pilot certificate, a flight instructor certificate (when acting as pilot in command or a required pilot flight crewmember in operations other than glider or balloon), or a student pilot certificate | 60 more calendar months.
| (ii) Age 40 or older | a recreational pilot certificate, a private pilot certificate, a flight instructor certificate (when acting as pilot in command or a required pilot flight crewmember in operations other than glider or balloon), or a student pilot certificate | 24 more calendar months.

3. Amend § 61.29 by revising paragraph (b) to read as follows:

§ 61.29 Replacement of a lost or destroyed airman or medical certificate or knowledge test report.

* * * * *

(b) A request for the replacement of a lost or destroyed medical certificate must be made by letter to the Department of Transportation, FAA, Aeromedical Certification Division, P.O. Box 26200, Oklahoma City, OK 73125, and must be accompanied by a check or money order for the appropriate fee payable to the FAA.

* * * * *

PART 65—CERTIFICATION: AIRMEN OTHER THAN FLIGHT CREWMEMBERS

4. The authority citation for part 65 continues to read as follows:

Authority: 49 U.S.C. 106(g), 40113, 44701-44703, 44707, 44709-44711, 45102-45103, 45301-45302.

5. Amend § 65.16 by revising paragraph (b) introductory text to read as follows:

§ 65.16 Change of name: Replacement of lost or destroyed certificate.

* * * * *

(b) An application for a replacement of a lost or destroyed certificate must be made by letter to the Department of Transportation, Federal Aviation Administration, Airman Certification Division, Post Office Box 26200, Oklahoma City, 73215. The letter must—

* * * * *

PART 67—MEDICAL STANDARDS AND CERTIFICATION

6. The authority citation for part 67 continues to read as follows:

Authority: 49 U.S.C. 106(g), 40113, 44701-44703, 44707, 44709-44711, 45102-45103, 45301-45302.

7. Revise § 67.3 to read as follows:

§ 67.3 Issue.

A person who meets the medical standards prescribed in this part, based on medical examination and evaluation of the person's history and condition, is entitled to an appropriate medical certificate.

8. Add § 67.4 to read as follows:

§ 67.4 Application.

An applicant for first-, second- and third-class medical certification must:

(a) Apply on a form and in a manner prescribed by the Administrator;

(b) Be examined by an aviation medical examiner designated in accordance with part 183 of this chapter. An applicant may obtain a list of aviation medical examiners from the FAA Office of Aerospace Medicine homepage on the FAA Web site, from any FAA Regional Flight Surgeon, or by contacting the Manager of the Aeromedical Education Division, P.O. Box 26200, Oklahoma City, Oklahoma 73125.

(c) Show proof of age and identity by presenting a government-issued photo identification (such as a current and valid U.S. driver's license, identification card issued by a driver's license authority, military identification, or passport). If an applicant does not have government-issued identification, he or she may use non-photo, government-issued identification (such as a birth certificate or voter registration card) in conjunction with a photo identification (such as a work identification card or a student identification card.)

9. Amend § 67.401 by removing paragraph (j).

10. Revise § 67.405 to read as follows:

§ 67.405 Medical examinations: Who may perform?

(a) First-class. Any aviation medical examiner who is specifically designated for the purpose may perform examinations for the first-class medical certificate.

(b) Second- and third-class. Any aviation medical examiner may perform examinations for the second-or third-class medical certificate.

11. Remove and reserve § 67.411.

12. Revise § 67.413 to read as follows:

§ 67.413 Medical records.

(a) Whenever the Administrator finds that additional medical information or history is necessary to determine whether you meet the medical standards required to hold a medical certificate, you must:

(1) Furnish that information to the FAA; or

(2) Authorize any clinic, hospital, physician, or other person to release to the FAA all available information or records concerning that history.

(b) If you fail to provide the requested medical information or history or to authorize its release, the FAA may suspend, modify, or revoke your medical certificate or, in the case of an applicant, deny the application for a medical certificate.

(c) If your medical certificate is suspended, modified, or revoked under paragraph (b) of this section, that suspension or modification remains in effect until you provide the requested information, history, or authorization to the FAA and until the FAA determines that you meet the medical standards set forth in this part.

PART 183—REPRESENTATIVES OF THE ADMINISTRATOR

13. The authority citation for part 183 continues to read as follows:

Authority: 31 U.S.C. 9701; 49 U.S.C. 106(g), 40113, 44702, 44721, 45303.

14. Amend § 183.11 by revising paragraph (a) to read as follows:

§ 183.11 Selection.

(a) The Federal Air Surgeon, or his or her authorized representatives within the FAA, may select Aviation Medical Examiners from qualified physicians who apply. In addition, the Federal Air Surgeon may designate qualified forensic pathologists to assist in the medical investigation of aircraft accidents.

* * * * *

15. Revise § 183.15 to read as follows:

§ 183.15 Duration of certificates.

(a) Unless sooner terminated under paragraph (b) of this section, a designation as an Aviation Medical Examiner or as a Flight Standards or Aircraft Certification Service Designated Representative as described in §§ 183.21, 183.23, 183.25, 183.27, 183.29, 183.31, or 183.33 is effective until the expiration date shown on the document granting the authorization.

(b) A designation made under this subpart terminates:

(1) Upon the written request of the representative;

(2) Upon the written request of the employer in any case in which the recommendation of the employer is required for the designation;

(3) Upon the representative being separated from the employment of the employer who recommended him or her for certification;

(4) Upon a finding by the Administrator that the representative has not properly performed his or her duties under the designation;

(5) Upon the assistance of the representative being no longer needed by the Administrator; or

(6) For any reason the Administrator considers appropriate.

Issued in Washington, DC, on March 23, 2007.
Frederick E. Tilton,
Federal Air Surgeon.

[FR Doc. E7-6652 Filed 4-9-07; 8:45 am]

BILLING CODE 4910-13-P